DEPARTMENT OF THE INTERIOR

U.S. Geological Survey

[USGS—GX10RB0000SDP00]

Agency Information Collection: Comment Request for National Gap Analysis Program Evaluation

AGENCY: United States Geological Survey (USGS), Interior.

ACTION: Notice of a new collection.

SUMMARY: To comply with the Paperwork Reduction Act of 1995 (PRA), we are notifying the public that we have submitted to the Office of Management and Budget (OMB) an information collection request (ICR) for a new collection of information: National Gap Analysis Program Evaluation. This notice provides the public and other Federal agencies an opportunity to comment on the paperwork burden of this information collection request.

DATES: You must submit comments on or before July 27, 2011.

ADDRESSES: Please submit written comments on this information collection directly to the Office of Management and Budget (OMB) Office of Information and Regulatory Affairs, Attention: Desk Officer for the Department of the Interior via e-mail to OIRA_DOCKET@omb.eop.gov or fax at 202-395-5806; and identify your submission as 1028-NEW. Please also submit a copy of your written comments to Phadrea Ponds, USGS Information Collection Clearance Officer, U.S. Geological Survey, 2150-C, Centre Avenue, Fort Collins, CO 80526-8118 (mail); 970-226-9230 (fax); or pondsp@usgs.gov (e-mail). Please reference Information Collection 1028-NEW, GAPSURVEY in the subject line.

FOR FURTHER INFORMATION CONTACT: To request additional information about this ICR, contact Joan Ratz by e-mail at ratzj@usgs.gov. To see a copy of the entire ICR submitted to OMB, go to http://www.reginfo.gov (Information Collection Review, Currently under Review).

SUPPLEMENTARY INFORMATION:

I. Abstract

The U.S. Geological Survey (USGS) will design and conduct a survey that will be used to evaluate the performance of the National Gap Analysis Program (GAP). The information collected will provide information for the Program's annual performance plan as required by the Government Performance and Results Act (GPRA). Scientists and staff in the Policy Analysis and Science Assistance Branch of the USGS will conduct this on-line survey.

Information from this survey will provide GAP managers with scientifically sound data that can be used to: (1) Prepare strategic planning and performance documents, (2) measure user satisfaction, and (3) understand user needs. Additionally, this survey can target performance issues relate to education and outreach, technology and data quality. Due to the nature of this collection, all identified respondents will have: (1) An active e-mail address and (2) skills in GIS and computer operations.

II. Data

OMB Control Number: None. This is a new collection.

Title: National Gap Analysis Program (GAP) Evaluation.

Type of Request: New.

Frequency of Collection: This is a one-time survey.

Respondent's Obligation: Voluntary.

Estimated Annual Number and Description of Respondents: Approximately 594 non-federal current and past users of the USGS National Gap Analysis Program (GAP).

Annual Burden Hours: 273 hours; we estimate the public reporting burden averages 28 minutes per response.

Estimated Annual Reporting and Recordkeeping “Hour” Burden: We have not identified any “non-hour cost” burdens associated with this collection of information.

III. Request for Comments

On February 24, 2009 we published a Federal Register notice (74 FR 8269) announcing that we would submit this ICR to OMB for approval and soliciting comments. The comment period closed on April 27, 2009. We did not receive any comments in response to that notice.

We again invite comments concerning this ICR on: (a) Whether the proposed collection of information is necessary for the agency to perform its duties, including whether the information is useful; (b) the accuracy of the agency's estimate of the burden of the proposed collection of information; (c) ways to enhance the quality, usefulness, and clarity of the information to be collected; and (d) ways to minimize the burden on the respondents, including the use of automated collection techniques or other forms of information technology.

Please note that the comments submitted in response to this notice are a matter of public record. Before including your address, phone number, e-mail address, or other personal identifying information in your comment, you should be aware that your entire comment, including your personal identifying information, may be made publicly available at anytime. While you can ask OMB in your comment to withhold your personal identifying information from public review, we cannot guarantee that it will be done.

Dated: June 7, 2011.
Martha N. Garcia,
Acting Deputy Associate Director for Ecosystems

[FR Doc. 2011-15963 Filed 6-24-11; 8:45 am]

BILLING CODE 4310-AM-P